DEPARTMENT OF THE INTERIOR

National Park Service

[NPS-WASO-NAGPRA-19978; PPWOCRADN0-PCU00RP14.R50000]

Notice of Inventory Completion: U.S. Department of the Interior, National Park Service, Lake Mead National Recreation Area, Boulder City, NV

AGENCY: National Park Service, Interior.

ACTION: Notice.

SUMMARY: The U.S. Department of the Interior, National Park Service, Lake Mead National Recreation Area has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to Lake Mead National Recreation Area. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to Lake Mead National Recreation Area at the address in this notice by February 26, 2016.

ADDRESSES: Lizette Richardson, Superintendent, Lake Mead National Recreation Area, 601 Nevada Highway, Boulder City, NV 89005, telephone (702) 293-8920, email lizette_richardson@nps.gov.

SUPPLEMENTARY INFORMATION: Notice is here given in accordance with the Native American Graves Protection and Repatriation Act (NAGPRA), 25 U.S.C. 3003, of the completion of an inventory of human remains under the control of the U.S. Department of the Interior, National Park Service, Lake Mead National Recreation Area, Boulder City, NV. The human remains were removed from site X:8:7, Yuma County, AZ.

This notice is published as part of the National Park Service's administrative responsibilities under NAGPRA, 25 U.S.C. 3003(d)(3). The determinations in this notice are the sole responsibility of the Superintendent, Lake Mead National Recreation Area.

Consultation

A detailed assessment of the human remains was made by Lake Mead National Recreation Area professional staff in consultation with representatives of the Ak Chin Indian Community of the Maricopa (Ak Chin) Indian Reservation, Arizona; Gila River Indian Community of the Gila River Indian Reservation, Arizona; Salt River Pima-Maricopa Indian Community of the Salt River Reservation, Arizona; and Tohono O'odham Nation of Arizona (hereafter referred to as “The Tribes”).

History and Description of the Remains

In March 1951, human remains representing, at minimum, one individual were removed from site X:8:7 on private land in Yuma County, AZ. National Park Service archeologist Albert H. Schroeder collected the fragmentary cremation with the permission of the landowner during an archeological survey of the Lower Colorado River. Three artifacts—two three-quarter groove, double-bitted polished axes and one small triangular obsidian point—may also have been removed, but their location is unknown. The cremation has been in the possession of Lake Mead National Recreation Area since its removal. No known individuals were identified. No associated funerary objects are present.

Mr. Schroeder's 1952 report identified the cremation as a prehistoric Native American individual of unspecified gender, likely Hohokam. All available lines of evidence support the archeological identification of the remains as Hohokam. The Ak Chin Indian Community of the Maricopa (Ak Chin) Indian Reservation, Arizona; Gila River Indian Community of the Gila River Indian Reservation, Arizona; Salt River Pima-Maricopa Indian Community of the Salt River Reservation, Arizona; and Tohono O'odham Nation of Arizona are known to be descendants of the Hohokam people. During consultation, representatives from each of these tribes stated that their oral traditions show cultural affiliation with the Hohokam. The ethnographic, archeological, and historical evidence supports that affiliation.

Determinations Made by Lake Mead National Recreation Area

Officials of Lake Mead National Recreation Area have determined that:

• Pursuant to 25 U.S.C. 3001(9), the human remains described in this notice represent the physical remains of one individual of Native American ancestry.

• Pursuant to 25 U.S.C. 3001(2), there is a relationship of shared group identity that can be reasonably traced between the Native American human remains and The Tribes.

Additional Requestors and Disposition

Lineal descendants or representatives of any Indian tribe or Native Hawaiian organization not identified in this notice that wish to request transfer of control of these human remains should submit a written request with information in support of the request to Lizette Richardson, Superintendent, Lake Mead National Recreation Area, 601 Nevada Highway, Boulder City, NV 89005, telephone (702) 293-8920, email lizette_richardson@nps.gov, by February 26, 2016. After that date, if no additional requestors have come forward, transfer of control of the human remains to The Tribes may proceed.

Lake Mead National Recreation Area is responsible for notifying The Tribes that this notice has been published.

Dated: December 10, 2015.
Melanie O'Brien,
Manager, National NAGPRA Program.

[FR Doc. 2016-01589 Filed 1-26-16; 8:45 am]

BILLING CODE 4312-50-P